DEPARTMENT OF THE INTERIOR

Fish and Wildlife Service

Recovery Plan for Hackelia venusta (Showy Stickseed)

AGENCY: U.S. Fish and Wildlife Service, Interior.

ACTION: Notice of document availability.

SUMMARY: We, the U.S. Fish and Wildlife Service, announce the availability of the Recovery Plan for Hackelia venusta (Showy Stickseed).

ADDRESSES: Copies of the final recovery plan are available by request from the U.S. Fish and Wildlife Service, Central Washington Field Office, 215 Melody Lane, Wenatchee, Washington 98801. Requests for copies of the final recovery plan and materials regarding this plan should be addressed to the Supervisor, Central Washington Field Office, at the above Wenatchee address. An electronic copy of the final recovery plan will also be made available online at http://www.fws.gov/pacific/ecoservices/endangered/recovery/plans.html. Printed copies of the recovery plan will be available for distribution in 4 to 6 weeks.

FOR FURTHER INFORMATION CONTACT: Tim McCracken, Fish and Wildlife Biologist, at the above address, by calling 509-665-3508, extension 17, or by electronic mail to: Tim_McCracken@fws.gov.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. The Draft Recovery Plan for Hackelia venusta (Showy Stickseed) was available for public comment from March 13 through May 12, 2006 (71 FR 12711). All information presented during the public comment period has been considered prior to approval of this final recovery plan, and is summarized in an appendix to the recovery plan. Some substantive technical comments resulted in changes to the recovery plan. Some substantive comments regarding recovery plan implementation did not result in changes to the recovery plan, but were forwarded to appropriate Federal or other entities so that they can take these comments into account during the course of implementing recovery actions. Individual responses to comments were not provided.

Hackelia venusta is an attractive perennial plant with showy white or blue-tinged flowers in the forget-me-not family (Boraginaceae). The species is a narrow endemic, being known from only 1 population of roughly 600 individuals in Chelan County, Washington. It occurs primarily on Federal lands, but a very small portion of the population is on private lands. Within its limited range, Hackelia venusta is found in open areas of steeply sloping, highly unstable granitic sand and granite cliffs. The common feature to its habitat appears to be the relatively sparse cover of other vascular plants and low canopy cover.

Hackelia venusta was listed as an endangered species in 2002 (67 FR 5515). The major threats to Hackelia venusta include: collection and physical disturbance to the plants and habitat by humans; mass wasting (landslides); nonnative noxious weeds; competition and shading from native trees and shrubs due to fire suppression; some highway maintenance activities; and low seedling establishment. The small population size and limited geographic extent of the species exacerbates all of these threats, and renders Hackelia venusta highly vulnerable to extirpation or extinction from either human-caused or random natural events.

The objective of the recovery plan is to reduce the threats to Hackelia venusta sufficient to accomplish increases in population size and geographic distribution across its estimated historical range so that the species is no longer in danger of extinction. The first step in the recovery strategy for the species is to protect and stabilize the existing population. This includes management to maintain an open habitat; noxious weed control; minimizing the damage of collection and trampling within the population; seed collection and long-term seed banking to protect the genetic resources of the species; and the development and implementation of management plans. In addition, to reduce the potential for extinction due to loss of the single population, recovery actions will likely require establishing additional populations within the estimated historical range of the species.

The recovery of Hackelia venusta is complicated by the very small size and limited distribution of the single population, as well as by the extreme instability of the habitat where it occurs. Monitoring activities have the potential to destabilize the habitat and damage or even kill plants, particularly young germinants; therefore the need for monitoring and data collection must be carefully weighed against the possible negative impacts of such actions.

Authority

The authority for this action is section 4(f) of the Endangered Species Act, 16 U.S.C. 1533(f).

Dated: November 15, 2007.
Ren Lohoefener,
Regional Director, Region 1, U.S. Fish and Wildlife Service.

[FR Doc. 07-5974 Filed 12-11-07; 8:45 am]

BILLING CODE 4310-55-P